DEPARTMENT OF HEALTH AND HUMAN SERVICES

Food and Drug Administration

21 CFR Part 589

[Docket No. 02N-0273]

Substances Prohibited From Use in Animal Food or Feed; Animal Proteins Prohibited in Ruminant Feed; Correction

AGENCY: Food and Drug Administration, HHS.

ACTION: Advance notice of proposed rulemaking; correction.

SUMMARY: The Food and Drug Administration (FDA) is correcting an advance notice of proposed rulemaking that appeared in the Federal Register of November 6, 2002 (67 FR 67572). The document solicited information and views on some potential changes to its current regulation prohibiting the use of certain proteins in ruminant animal feed.

EFFECTIVE DATE: November 26, 2002.

FOR FURTHER INFORMATION CONTACT: Linda Huntington, Executive Secretariat, Office of the Commissioner (HF-4), Food and Drug Administration, 5600 Fishers Lane, Rockville, MD 20857, 301-827-4443.

SUPPLEMENTARY INFORMATION: In FR Doc. 02-28373, appearing on page 67572 in the Federal Register of Wednesday, November 6, 2002, the following correction is made:

1. On page 67573, in the second column, in the sixth line, the phone number “301-594-1755” is corrected to read “301-827-3800”.

Dated: November 20, 2002.
Margaret M. Dotzel,
Associate Commissioner for Policy.

[FR Doc. 02-29926 Filed 11-25-02; 8:45 am]

BILLING CODE 4160-01-S